NUCLEAR REGULATORY COMMISSION

10 CFR Part 50

[NRC-2018-0290]

RIN 3150-AK22

American Society of Mechanical Engineers 2019-2020 Code Editions; Correction

AGENCY: Nuclear Regulatory Commission.

ACTION: Final rule; correction and correcting amendment.

SUMMARY: The U.S. Nuclear Regulatory Commission (NRC) published a final rule in the Federal Register on October 27, 2022, amending its regulations to incorporate by reference the 2019 Edition of the American Society of Mechanical Engineers Boiler and Pressure Vessel Code, Section III, Division 1, and Section XI, Division 1, and the 2020 Edition of the American Society of Mechanical Engineers Operation and Maintenance of Nuclear Power Plants, Division 1: OM Code: Section IST, for nuclear power plants. These amendments were made in accordance with NRC's policy to periodically update the regulations to incorporate by reference new editions of the American Society of Mechanical Engineers Codes and are intended to maintain the safety of nuclear power plants and to make NRC activities more effective and efficient. The final rule contained minor editorial errors, and this action is necessary to correct the final rule and the regulations.

DATES: Effective on December 1, 2022.

ADDRESSES: Please refer to Docket ID NRC-2018-0290 when contacting the NRC about the availability of information for this action. You may obtain publicly available information related to this action by any of the following methods:

• Federal Rulemaking Website: Go to https://www.regulations.gov and search for Docket ID NRC-2016-0179. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time, Monday through Friday, except Federal holidays.

FOR FURTHER INFORMATION CONTACT: Caylee Kenny, Office of Nuclear Material Safety and Safeguards, telephone: 301-415-7150, email: Caylee.Kenny@nrc.gov; or Michael Benson, Office of Nuclear Reactor Regulation, telephone: 301-415-2425, email: Michael.Benson@nrc.gov. Both are staff of the U.S. Nuclear Regulatory Commission, Washington, DC 20555-0001.

SUPPLEMENTARY INFORMATION: The NRC may post materials related to this document, including public comments, on the Federal rulemaking website at https://www.regulations.gov under Docket ID NRC-2018-0290. In addition, the Federal rulemaking website allows members of the public to receive alerts when changes or additions occur in a docket folder. To subscribe: (1) navigate to the docket folder (NRC-2018-0290); (2) click the “Subscribe” link; and (3) enter an email address and click on the “Subscribe” link.

Correction to Final Rule

The NRC is announcing the following corrected language to the final rule published at 87 FR 65128, October 27, 2022. On page 65131, in the last paragraph in the second column, “NB 5283” is corrected to read “NB-5238”.

List of Subjects in 10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

Accordingly, 10 CFR part 50 is corrected by making the following correcting amendment:

PART 50—DOMESTIC LICENSING OF PRODUCTION AND UTILIZATION FACILITIES

1. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

2. In § 50.55a, revise the heading of paragraph (b)(2)(xxv)(A) to read as follows:

§ 50.55a Codes and standards.

* * * * *

(b) * * *

(2) * * *

(xxv) * * *

(A) Mitigation of defects by modification: First provision. * * *

* * * * *

Dated: November 23, 2022.
For the Nuclear Regulatory Commission.
Alexa R. Sieracki,
Acting Chief, Regulatory Analysis and Rulemaking Support Branch, Division of Rulemaking, Environmental, and Financial Support, Office of Nuclear Material Safety and Safeguards.

[FR Doc. 2022-26030 Filed 11-30-22; 8:45 am]

BILLING CODE 7590-01-P